DEPARTMENT OF AGRICULTURE

Forest Service

Information Collection; Homeowner Risk Reduction Behaviors Concerning Wildfire Risks and Climate Change Impacts

AGENCY: Forest Service, USDA.

ACTION: Notice; request for comment.

SUMMARY: In accordance with the Paperwork Reduction Act of 1995, the Forest Service is seeking comments from all interested individuals and organizations on a new, one-time information collection, Homeowner Risk Reduction Behaviors Concerning Wildfire Risks and Climate Change Impacts. The information will be collected from homeowner groups, such as homeowners associations, that have been affected by wildfires.

The information collected will focus on homeowners who live in the wildland-urban interface and were affected by major wildfires in U.S. Department of Agriculture, Forest Service, Region 3. The information provided by this study will allow Forest Service land managers to better understand which risk reduction behaviors homeowners choose to undertake, as well as ones they choose not to undertake, and factors that influence these choices, particularly factors related to climate change impacts. This information will assist the Forest Service in their risk communication efforts with “at risk” communities and individuals.

DATES: Comments must be received in writing on or before September 23, 2011 to be assured of consideration. Comments received after that date will be considered to the extent practicable.

ADDRESSES: Comments concerning this notice should be addressed to Dr. Carol Raish, Rocky Mountain Research Station, Forest Service, USDA, 333 Broadway, SE., Suite 115, Albuquerque, NM 87102.

Comments also may be submitted via facsimile to 505-724-3688 or by e-mail to craish@fs.fed.us.

The public may inspect comments received at the Rocky Mountain Research Station, Forest Service, USDA, 333 Broadway, SE., Albuquerque, NM, during normal business hours. Visitors are encouraged to call ahead to 505-724-3666 to facilitate entry to the building.

FOR FURTHER INFORMATION CONTACT: Dr. Carol Raish, Rocky Mountain Research Station, at 505-724-3666. Individuals who use telecommunication devices for the deaf (TDD) may call the Federal Relay Service (FRS) at 1-800-877-8339 twenty-four hours a day, every day of the year, including holidays.

SUPPLEMENTARY INFORMATION: Title: Understanding the Threats of Wildfire & Climate Change: Risk Mitigation Behaviors of Homeowners.

OMB Number: 0596-New.

Expiration Date of Approval: N/A.

Type of Request: New.

Abstract: Over the past 20 to 30 years, the population living in areas that are threatened by wildfire has increased significantly. As more individuals move to these areas, it has become increasingly important to understand how they perceive the risks they face living in these new landscapes. Much work has been done in the area of communicating the risks of wildfire to homeowners in these fire prone environments. However, only recently has there been a commitment to better understand the link between wildfire events, the associated risk, and climate change. The objective of this study is to help decisionmakers better understand the preferences of the homeowners in high risk areas to deal with threats that are posed from wildfire as these risks are enhanced due to the effects of climate change. Gaining an improved understanding of the homeowners' decisionmaking process based on these linkages will facilitate the design of more effective risk mitigation projects and improved communication strategies among stakeholders.

Homeowners, located in the wildland-urban interface in areas that were affected by wildfires, will be asked to complete a one-time survey. The homeowners will be asked to voluntarily participate is this survey. The survey will be mailed to homeowners by Integrated Resource Solutions in Laguna Niguel, CA, operating under a Research Joint Venture with the Forest Service Rocky Mountain Research Station in Albuquerque, NM.

The type of information collection will include: (1) Risk perceptions regarding wildfire, (2) risk reduction behaviors associated with wildfire, (3) sources of information regarding wildfires and wildfire risk reduction, (4) attitudes and knowledge of climate change and its impact on wildfire risks, and (5) socio-economic information.

The data collected will be analyzed by Forest Service researchers at the Rocky Mountain Research Station and the following cooperators: Drs. Ingrid and Wade Martin of California State University of Long Beach, Long Beach, California. The results will be made available to Forest Service land managers, the respondents, and other interested parties.

This information will enhance the ability of Forest Service land managers on national forests to communicate and understand the public and their preferences regarding the management of wildfire risk. Without this type of information, Forest Service land managers and the public will continue to interact on the issues of wildfire risk without a broad-based understanding of the factors that lessen wildfire risk; factors that are important to homeowners.

Estimate of One Time Burden: 30 minutes.

Type of Respondents: Homeowners located in the wildland-urban interface in the western United States.

Estimated One Time Number of Respondents: 500.

Estimated One Time Number of Responses per Respondent: 1.

Estimated Total One Time Burden on Respondents: 250 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: July 18, 2011.
Jimmy L. Reaves,
Deputy Chief, Research and Development.

[FR Doc. 2011-18629 Filed 7-22-11; 8:45 am]

BILLING CODE 3410-11-P